ENVIRONMENTAL PROTECTION AGENCY

[EPA-HQ-OPPT-2019-0075; FRL-9992-82]

Certain New Chemicals; Receipt and Status Information for August 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 08/01/2019 to 08/31/2019.

DATES: Comments identified by the specific case number provided in this document must be received on or before December 9, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 08/01/2019 to 08/31/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 08/01/2019 to 08/31/2019
Case No. | Version | Received date | Manufacturer | Use | Chemical substance
P-16-0207A | 2 | 8/28/2019 | CBI | (G) Additive for electrolyte solution | (G) Spiro Tetrafluoroborate.
P-16-0225A | 4 | 8/6/2019 | CBI | (S) The notified substance will be used as a fragrance ingredient, being blended (mixed) with other fragrance ingredients to make fragrance oils that will be sold to industrial and commercial customers for their incorporation into soaps, detergents, cleaners, air fresheners, candles and other similar industrial, household and consumer products | (G) Alkylene-substituted propoxycyclohexanol.
P-16-0442A | 5 | 7/31/2019 | CBI | (G) Polymer for coatings | (G) Carboxylic acids, unsaturated, polymers with disubstituted amine, alkanediol, substituted alkylpropanoic acid, alkanedioic acid and substituted isocyanatocycloalkane, compds with alkylamine.
P-16-0443A | 5 | 7/31/2019 | CBI | (G) Polymer for coatings | (G) Carboxylic acids, unsaturated, hydrogenated polymers with disubstituted amine, alkanediol, substituted alkylpropanoic acid, alkanedioic acid and substituted isocyanatocycloalkane, compds with alkylamine.
P-16-0444A | 5 | 7/31/2019 | CBI | (G) Polymer for coatings | (G) Carboxylic acids, unsaturated, polymers with substituted alkanediamine, alkanediol, substituted alkylpropanoic acid, alkanedioic acid and substituted isocyanatocycloalkane, compds with alkylamine.
P-16-0445A | 5 | 7/31/2019 | CBI | (G) Polymer for coatings | (G) Carboxylic acids, unsaturated, hydrogenated polymers with substituted alkanediamine, alkanediol, substituted alkylpropanoic acid, alkanedioic acid and substituted isocyanatocycloalkane, compds with alkylamine.
P-16-0570A | 5 | 8/2/2019 | Emery Oleochemicals | (S) Aromatic polyester polyol for rigid foam | (G) Aromatic Polyester Polyol.
P-17-0115A | 3 | 8/7/2019 | CBI | (S) An adhesion promoter for coating formulations | (G) Aminoalkyl alkoxysilane.
P-17-0295A | 2 | 8/8/2019 | CBI | (S) Refrigerant used in closed systems for (i) chillers (commercial comfort air conditioners); and (ii) industrial process refrigeration | (G) Hydrochlorofluoroolefin.
P-17-0395A | 5 | 8/1/2019 | CBI | (G) Water treatment additive | (G) Alkyl tri dithiocarbmate tri salt.
P-17-0405A | 5 | 8/15/2019 | CBI | (G) Oil and gas well performance | (G) halogentated benzoic acid ethyl ester.
P-17-0406A | 5 | 8/15/2019 | CBI | (G) Oil and gas well performance | (G) halogenated benzoic acid ethyl ester.
P-17-0407A | 4 | 8/15/2019 | CBI | (G) Well performance | (G) halogenated benzoic acid ethyl ester.
P-17-0408A | 3 | 8/15/2019 | CBI | (G) Well performance | (G) halogenated benzoic acid ethyl ester.
P-17-0409A | 4 | 8/15/2019 | CBI | (G) Monitor well performance | (G) halogenated benzoic acid ethyl ester.
P-17-0410A | 3 | 8/15/2019 | CBI | (G) Monitor well performance. | (G) halogenated benzoic acid ethyl ester.
P-17-0411A | 3 | 8/15/2019 | CBI | (G) Monitor well performance | (G) halogenated benzoic acid ethyl ester.
P-17-0412A | 3 | 8/15/2019 | CBI | (G) Monitor well performance | (G) halogenated benzoic acid ethyl ester.
P-17-0415A | 4 | 8/15/2019 | CBI | (G) Monitor well performance | (G) halogenated benzoic acid.
P-17-0416A | 4 | 8/15/2019 | CBI | (G) Monitor well performance | (G) halogenated benzoic acid.
P-17-0417A | 4 | 8/15/2019 | CBI | (G) Monitor well performance | (G) halogenated benzoic acid.
P-17-0418A | 4 | 8/15/2019 | CBI | (G) Monitor well performance | (G) halogenated benzoic acid.
P-17-0420A | 5 | 8/15/2019 | CBI | (G) Monitor well performance | (G) halogenated benzoic acid.
P-17-0421A | 4 | 8/15/2019 | CBI | (G) Monitor well performance | (G) halogenated benzoic acid.
P-17-0422A | 4 | 8/15/2019 | CBI | (G) Monitor well performance | (G) halogenated benzoic acid.
P-17-0423A | 3 | 8/15/2019 | CBI | (G) Monitor well performance | (G) halogenated benzoic acid ethyl ester.
P-17-0441A | 3 | 8/15/2019 | CBI | (G) Monitor well performance | (G) halogenated sodium benzoate.
P-17-0442A | 3 | 8/15/2019 | CBI | (G) Monitor well performance | (G) halogenated sodium benzoate.
P-17-0443A | 4 | 8/15/2019 | CBI | (G) Monitor well performance | (G) halogenated sodium benzoate.
P-17-0444A | 3 | 8/15/2019 | CBI | (G) Monitor well performance | (G) halogenated sodium benzoate.
P-17-0445A | 4 | 8/15/2019 | CBI | (G) Monitor well performance | (G) halogenated sodium benzoate.
P-17-0446A | 3 | 8/15/2019 | CBI | (G) Monitor well performance | (G) halogenated sodium benzoate.
P-17-0447A | 4 | 8/15/2019 | CBI | (G) Monitor well performance | (G) halogenated sodium benzoate.
P-17-0448A | 3 | 8/15/2019 | CBI | (G) Monitor well performance | (G) halogenated sodium benzoate.
P-17-0449A | 3 | 8/15/2019 | CBI | (G) Monitor well performance | (G) halogenated sodium benzoate.
P-17-0450A | 3 | 8/15/2019 | CBI | (G) Monitor well performance | (G) Halogenated benzoic acid.
P-18-0068A | 3 | 8/14/2019 | CBI | (G) Polymer composite additive | (G) Metal, oxo alkylcarboxylate complexes.
P-18-0075A | 2 | 8/21/2019 | CBI | (S) Precursor component to make an optical convertor in the next step of manufacturing | (G) Saturated fatty acid, reaction products with cadmium zinc selenide sulfide, alkylamine and polymeric amine.
P-18-0084A | 6 | 8/7/2019 | ShayoNano USA, Inc | (S) Additive for paints and coatings | (S) silicon zinc oxide.
P-18-0190A | 3 | 8/7/2019 | Cabot Corporation | (S) Pigment Dispersing Aid | (G) 2,5-Furandione, polymer with ethenylbenzene, 4-hydroxy-substituted butyl amide, polymers with epichlorohydrin and trimethylolpropane, sodium salts.
P-18-0190A | 4 | 8/14/2019 | Cabot Corporation | (S) Pigment Dispersing Aid | (G) 2,5-Furandione, polymer with ethenylbenzene, 4-hydroxy-substituted butyl amide, polymers with epichlorohydrin and trimethylolpropane, sodium salts.
P-18-0191A | 3 | 8/7/2019 | Cabot Corporation | (S) Pigment Dispersing Aid | (G) 2,5-Furandione, polymer with ethenylbenzene, 4-hydroxy-substitutedbutyl [3-[2-[1-[[(substitutedphenyl)amino]carbonyl]-2-oxopropyl]diazenyl]phenyl]methyl amide, polymers with epichlorohydrin and trimthylolpropane, sodium salts.
P-18-0191A | 4 | 8/14/2019 | Cabot Corporation | (S) Pigment Dispersing Aid | (G) 2,5-Furandione, polymer with ethenylbenzene, 4-hydroxy-substitutedbutyl [3-[2-[1-[[(substitutedphenyl)amino]carbonyl]-2-oxopropyl]diazenyl]phenyl]methyl amide, polymers with epichlorohydrin and trimthylolpropane, sodium salts.
P-18-0273 | 1 | 8/7/2018 | CBI | (G) Plasticizer/softener in PVC manufacturing | (S) 1,4-Cyclohexanedicarboxylic acid, 1,4-bis(2-ethylhexyl) ester.
P-18-0281A | 2 | 8/22/2019 | CBI | (G) Electrolyte additive | (G) Cyclic sulfate.
P-18-0292A | 5 | 8/23/2019 | CBI | (G) Use in print resins | (G) alkanediol, polymer with 5-isocyanato-1-(isocyanatomethyl)-1,3,3-trimethylcyclohexane, alkylaminoalkyl methacrylate-blocked.
P-18-0295A | 4 | 8/9/2019 | CBI | (G) Ingredient in the manufacture of consumer cleaning products, (G) Use as monomer in the manufacture of resins for use in paint and coating products. (S) Use as a monomer in the manufacture of plastic products. In this process the notified substance is reacted with one or more other compounds to become part of a polymer. Depending on the reactants involved, the final polymer can be a resin used to make molded plastic products or the final polymer can be a shorter polymer used as a plasticizer | (S) 1,3-Butanediol, (3R)-.
P-18-0310A | 2 | 8/7/2019 | Chitec Technology Co., Ltd | (G) Polymer additive | (S) Benzenepropanoic acid, 3-(2H-benzotriazol-2-yl)-5-(1,1-dimethylethyl)-4-hydroxy-, 2,2-bis(hydroxymethyl)butyl ester.
P-18-0318A | 2 | 8/20/2019 | Gelest | (S) Surface treatment for added lubricity and anti-static properties and research | (S) 1-Octadecanaminium, N,N-dimethyl-N-[3-(triethoxysilyl)propyl]- chloride.
P-18-0351A | 2 | 8/11/2019 | CBI | (G) UV curable inks | (G) Acrylic acid, tricyclo alkyl ester.
P-18-0384A | 3 | 8/6/2019 | Sigma-Aldrich CO, LLC | (S) Starting material for manufacture of 6Lithium chloride scintillation crystals for use in radiation detection | (S) Lithium 6.
P-18-0403A | 3 | 8/15/2019 | Clarion Plastics & Coatings USA Inc | (S) Dispersing agent for pigments, paints, and coatings | (S) 2-Propenoic acid, 2-methyl-, butyl ester, polymer with 2-(dimethylamino)ethyl 2-methyl-2-propenoate and 2-ethylhexyl 2-methyl-2-propenoate.
P-19-0047A | 2 | 7/31/2019 | CBI | (S) Binder for Thermoplastic Coatings and Ink/Adhesive | (S) Propanoic acid, 3-hydroxy-2-(hydroxymethyl)-2-methyl-, polymer with 5-amino-1,3,3-trimethylcyclohexanemethanamine, a-hydro-w-hydroxypoly(oxy-1,4-butanediyl), a-hydro-w-hydroxypoly[oxy(methyl-1,2-ethanediyl)], 5-isocyanato-1-(isocyanatomethyl)-1,3,3-trimethylcyclohexane and 1,1′-methylenebis[4-isocyanatobenzene], Pr alc.-blocked where a = alpha and w = omega.
P-19-0047A | 3 | 8/20/2019 | CBI | (S) Binder for Thermoplastic Coatings and Ink/Adhesive | (S) Propanoic acid, 3-hydroxy-2-(hydroxymethyl)-2-methyl-, polymer with 5-amino-1,3,3-trimethylcyclohexanemethanamine, a-hydro-w-hydroxypoly(oxy-1,4-butanediyl), a-hydro-w-hydroxypoly[oxy(methyl-1,2-ethanediyl)], 5-isocyanato-1-(isocyanatomethyl)-1,3,3-trimethylcyclohexane and 1,1′-methylenebis[4-isocyanatobenzene], Pr alc.-blocked where a = alpha and w = omega.
P-19-0055A | 2 | 8/13/2019 | Rahn USA, Corp. | (S) The PMN is solely used as a photo initiator within UV curable coating/ink formulations. This photo initiator is starting the polymerization process during the UV curing process of the formulation. The curing is achieved by UV light only, no heat is applied. After curing, the PMN substance is no longer available for exposure or release | (S) 1,3-propanediol, 2-ethyl-2-(hydroxymethyl)-, polymer with oxirane, 4-(dimethylamino)benzoate.
P-19-0059A | 4 | 8/6/2019 | Essential Industries, Inc | (S) Wood Coating | (S) Butanoic acid, 3-oxo-, 2-[(2-methyl-1-oxo-1-propen-1-yl)oxy]ethyl ester, polymer with butyl 2-propenoate, ethenylbenzene, 1,1′-[(1-methyl-1,2-ethanediyl)bis[oxy(methyl-2,1-ethanediyl)]] di-2-propenoate, methyl 2-methyl-2-propenoate and 2-methyl-2-propenoic acid, ammonium salt.
P-19-0077A | 5 | 8/7/2019 | CBI | (G) Agricultural | (G) alkenylamide.
P-19-0077A | 6 | 8/8/2019 | CBI | (G) Agricultural | (G) alkenylamide.
P-19-0078A | 3 | 8/19/2019 | SHIN-ETSU MICROSI | (G) Contained use for microlithography for electronic device manufacturing | (G) Substitutedheterocyclic onium compound, salt with 2,2,2-trifluoro-1-(sulfomethyl)-1-(trifluoromethyl)ethyl 3-[(2-methyl-1-oxo-2-propen-1-yl)oxy]tricycle[3.3.1.13,7]decane-1- carboxylate (1:1), polymer with acenaphthylene, 1-ethenyl-4-[(1-ethylcyclopentyl)oxy]benzene and 4-ethenylphenol, di-Me 2,2′-(1,2-diazenediyl)bis[2-methylpropanoate]-initiated.
P-19-0079A | 2 | 8/19/2019 | SHIN-ETSU MICROSI | (G) Contained use for microlithography for electronic device manufacturing | (G) substituted heterocyclic onium compound, salt with 2,2,2-trifluoro-1-(sulfomethyl)-1-(trifluoromethyl)ethyl 3-[(2-methyl-1-oxo-2-propen-1-yl)oxy]tricyclo[3.3.1.13,7]decane-1- carboxylate (1:1), polymer with acenaphthylene, 1-ethenyl-4-[[1-(1-methylethyl)cyclopentyl]oxy]benzene and 4-ethenylphenol, di-Me 2,2′-(1,2-diazenediyl)bis[2-methylpropanoate]-initiated.
P-19-0085A | 2 | 8/5/2019 | Neste oil US, Inc. | (G) The PMN substance will be used as a functional fluid in electrical equipment | (G) Aliphatic hydrocarbons, C16-18-branched and linear.
P-19-0086A | 4 | 8/14/2019 | CBI | (G) Monitor oil and gas well performance | (G) Halogenated sodium alkylbenzoate.
P-19-0087A | 4 | 8/14/2019 | CBI | (G) Monitor oil-and-gas well performance | (G) Halogenated Sodium alkylbenzoate.
P-19-0089A | 6 | 8/14/2019 | CBI | (G) Well performance tracer | (G) Halogenated sodium alkylbenzoate.
P-19-0090A | 4 | 8/14/2019 | CBI | (G) Well performance tracer | (G) Halogenated sodium benzoate.
P-19-0091A | 4 | 8/14/2019 | CBI | (G) Well performance tracer | (G) Halogenated alkylbenzoic acid.
P-19-0092A | 3 | 8/14/2019 | CBI | (G) Tracer of well performance | (G) Halogenated alkylbenzoic acid.
P-19-0093A | 4 | 8/14/2019 | CBI | (G) Tracer for well performance | (G) Halogenated benzoic acid.
P-19-0095A | 5 | 8/16/2019 | CBI | (G) Consumer Disposables, Polymer Sheet, and Durable Goods | (G) Poly hydroxy alkanoate.
P-19-0097A | 5 | 8/14/2019 | CBI | (G) Well performance monitor | (G) Halogenated alkylbenzoic acid, ethyl ester.
P-19-0100A | 6 | 8/14/2019 | CBI | (G) Well performance monitor | (G) Halogenated alkylbenzoic acid, ethyl ester.
P-19-0101A | 6 | 8/14/2019 | CBI | (G) Monitor well performance | (G) Halogenated alkylbenzoic acid, ethyl ester.
P-19-0102A | 4 | 8/1/2019 | CBI | (G) Well performance monitor | (G) Halogenated alkylbenzoic acid, ethyl ester.
P-19-0103A | 3 | 8/14/2019 | CBI | (G) Well performance monitor | (G) Halogenated alkyl benzoic acid.
P-19-0104A | 5 | 8/14/2019 | CBI | (G) Well performance monitor | (G) Halogenated alkylbenzoic acid, ethyl ester.
P-19-0105A | 4 | 8/14/2019 | CBI | (G) Well performance monitor | (G) Halogenated benzoic acid, ethyl ester.
P-19-0106A | 4 | 8/14/2019 | CBI | (G) Well performance monitor | (G) Halogenated alkylbenzoic acid, ethyl ester.
P-19-0107A | 4 | 8/14/2019 | CBI | (G) Well performance monitor | (G) Halogenated alkylbenzoic acid, ethyl ester.
P-19-0108A | 4 | 8/14/2019 | CBI | (G) Well performance monitor | (G) Halogenated alkylbenzoic acid, ethyl ester.
P-19-0110A | 4 | 8/14/2019 | CBI | (G) Well performance monitor | (G) Halogenated benzoic acid, ethyl ester.
P-19-0113A | 4 | 8/23/2019 | CBI | (G) Flow cell additive | (G) metal oxide-chloro.
P-19-0119A | 2 | 8/28/2019 | ZSCHIMMER & SCHWARZ | (S) Foaming additive used in building/construction, exposure would only occur during loading of finished product. Product application is used in closed system with very low possibility for exposure. To be used on construction sites | (S) Poly(oxy-1,2-ethanediyl), alpha-sulfo-omega-hydroxy-, C9-11-branched alkyl ethers, sodium salts.
P-19-0137 | 2 | 8/8/2019 | CBI | (G) Component in lubricants | (G) Alkyl oligomeric reaction products.
P-19-0137A | 3 | 8/19/2019 | CBI | (G) Component in lubricants | (G) Alkyl oligomeric reaction products.
P-19-0142 | 1 | 7/31/2019 | CBI | (G) An ingredient used in the manufacture of photoresist | (G) Heteropolycycle, aromatic-, salt with dihalo-substituted alkyl carbopolycycle carboxylate (1:1).
P-19-0143 | 1 | 8/2/2019 | Aditya Birla Chemicals (USA), LLC | (S) A crosslinking agent for use in epoxy resin for water-based coating for a variety of substrates and civil applications in commercial and consumer usages | (G) Aldehyde, polymer with mixed alkanepolyamines, 2,2′-[1,4-alkanediylbis(oxyalkylene)] bis[oxirane], 2-(alkoxyalkyloxirane, 4,4′-(1-alkylidene)bis[phenol], 2,2′-[(1-alkylidene)bis(4,1-alkyleneoxyalkylene)]bis[oxirane] and 2-(aryloxyalkyl)oxirane, acetate (salt).
P-19-0143A | 2 | 8/8/2019 | Aditya Birla Chemicals (USA), LLC | (S) A crosslinking agent for use in epoxy resin for water-based coating for a variety of substrates and civil applications in commercial and consumer usages | (G) Aldehyde, polymer with mixed alkanepolyamines, 2,2′-[1,4-alkanediylbis(oxyalkylene)] bis[oxirane], 2-(alkoxyalkyloxirane, 4,4′-(1-alkylidene)bis[phenol], 2,2′-[(1-alkylidene)bis(4,1-alkyleneoxyalkylene)]bis[oxirane] and 2-(aryloxyalkyl)oxirane, acetate (salt).
P-19-0144 | 1 | 8/5/2019 | Aditya Birla Chemicals (USA), LLC | (S) A crosslinking agent in epoxy based self-leveling floor coatings | (G) Alkanedioic Acid, compds. With substituted arylalkylamine- arylalcohol disubstituted alkane-the diglycidyl ether of a arylalcohol disubstituted alkane -epichlorohydrin-aldehyde-2,2′-[(1-alkylidene)bis[4,1-aryleneoxy(alkyl-2,1-alkanediyl)oxyalkylene]]bis[oxirane]-alkanepolyamine polymer-1-[[2-[(2-aminoalkyl)amino]alkyl]amino]-3-aryloxy-2-alcohol reaction products.
P-19-0144A | 2 | 8/8/2019 | Aditya Birla Chemicals (USA), LLC | (S) A crosslinking agent in epoxy based self-leveling floor coatings | (G) Alkanedioic Acid, compds. With substituted arylalkylamine- arylalcohol disubstituted alkane-the diglycidyl ether of a arylalcohol disubstituted alkane -epichlorohydrin-aldehyde-2,2′-[(1-alkylidene)bis[4,1-aryleneoxy(alkyl-2,1-alkanediyl)oxyalkylene]]bis[oxirane]-alkanepolyamine polymer-1-[[2-[(2-aminoalkyl)amino]alkyl]amino]-3-aryloxy-2-alcohol reaction products.
P-19-0145 | 2 | 8/15/2019 | ARC Products, Inc | (S) Oil Field Drilling fluid additive | (G) 1,2-Ethanediamine, N1-(2-aminoethyl)-N2-[2-[(2-aminoethyl)amino]ethyl]-,polymer with 2-methyloxirane and oxirane, compd. with haloalkane.
P-19-0146 | 2 | 8/13/2019 | CBI | (G) Reagent used to introduce deuterium to the substrate chemical | (G) Modified dimethyl sulfoxide.
P-19-0147 | 1 | 8/16/2019 | CRODA, INC | (G) Cleaning additive | (G) alkoxylated butyl alkyl ester.
P-19-0148 | 1 | 8/22/2019 | CBI | (G) Fertilizer ingredient | (G) Iron, complexes with ethylenediamine-4-hydroxycarbomonocycle hetero-acid-2-oxoacetic acid reaction products, potassium salts.
P-19-0149 | 1 | 8/22/2019 | CBI | (G) Fertilizer ingredient | (G) Iron, complexes with ethylenediamine-4-hydroxycarbomonocycle hetero-acid potassium salt (1:1)-potassium 2-oxoacetate (1:1) reaction products, potassium salts.
P-19-0150 | 1 | 8/22/2019 | CBI | (G) Fertilizer ingredient | (G) Iron, complexes with ethylenediamine-4-hydroxycarbomonocycle hetero-acid-2-oxoacetic acid reaction products, sodium salts.
P-19-0151 | 1 | 8/22/2019 | CBI | (G) Fertilizer ingredient | (G) Iron, complexes with ethylenediamine-4-hydroxycarbomonocycle hetero-acid sodium salt (1:1)-sodium 2-oxoacetate (1:1) reaction products, sodium salts.
P-19-0152 | 2 | 8/27/2019 | UBE AMERICA, INC | (G) Pre-polymer for polyurethane roll covers | (G) alkaneic acid, dialkyl ester polymer with alkanediol, [[(isocyanatocarbomonocycle)alkyl)carbomonocycle)carbamate.
P-19-0153 | 2 | 8/28/2019 | Wego Chemical Group | (S) Raw material in Flame Retardant product | (G) Dibromoalkyl ether Tetrabromobisphenol A.
SN-19-0004A | 6 | 8/12/2019 | CBI | (S) A lubricating agent used in the production of automotive disc brakes | (G) Pitch coke.
SN-19-0004A | 7 | 8/14/2019 | CBI | (S) A lubricating agent used in the production of automotive disc brakes | (G) Pitch coke.
* The term ‘Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 08/01/2019 to 08/31/2019
Case No. | Received date | Commencement date | If amendment, type of amendment | Chemical substance
J-16-0025A | 8/23/2019 | 9/11/2018 | Provided CBI substantiation | (G) Modified trichoderma reesei.
P-14-0070 | 7/31/2019 | 7/14/2019 | N | (S) Pentamethylenediamine; 1,5-pentanediamine.
P-15-0157 | 8/7/2019 | 8/3/2019 | N | (G) Bis(carbomethoxy)benzenesulfonic acid sodium salt polymer with 1,3-benzenedicarboxylic acid, 2,2-dimethyl-1, 3-propanediol and 1,2-ethanediol.
P-15-0605 | 8/22/2019 | 8/16/2019 | N | (S) Alkenes, C18-22, mixed with polyethylene, oxidized, hydrolyzed, distn. residues, from C16-18 alcs. manuf.
P-16-0207A | 8/27/2019 | 9/12/2018 | Provided CBI substantiation | (G) Spiro tetrafluoroborate.
P-16-0225 | 8/6/2019 | 7/7/2019 | N | (G) Alkylene-substituted propoxycyclohexanol.
P-16-0348 | 8/28/2019 | 8/14/2019 | N | (G) Polypentaerythritol, mixed esters with linear and branched monoacids.
P-16-0407A | 8/28/2019 | 10/13/2017 | Amended the generic chemical name | (G) Functionalized polyamide.
P-16-0422 | 8/15/2019 | 7/31/2019 | N | (S) 1,2-cyclohexanedicarboxylic acid, 1-(phenylmethyl) ester, ester with 2,2,4-trimethyl-1,3-pentadiol mono(2-methylpropanoate).
P-18-0185 | 8/7/2019 | 8/2/2019 | N | (G) Fatty acid, polymer with alkanedioic acid dialkyl ester, hydroxyl alkyl substituted alkanediol, substituted carbomonocycle and alkylol substituted alkane.
P-18-0200 | 8/9/2019 | 7/12/2019 | N | (G) Waste plastics, poly(ethylene terephthalate), polymers with diethylene glycol, glycerol, polyerythritol, triethylene glycol, trimethylolalkane and polypropylene glycol.
P-18-0201 | 8/9/2019 | 7/12/2019 | N | (G) Waste plastics, poly(ethylene terephthalate), polymers with diethylene glycol, glycerol, polyerythritol, phthalic anhydride, triethylene glycol, trimethylolalkane and polypropylene glycol.
P-18-0278 | 8/8/2019 | 8/2/2019 | N | (G) Isophthalic acid, polymer with terephthalic acid and C4 and C6 dialkyl amines.
P-18-0286 | 8/16/2019 | 8/14/2019 | N | (S) Propane, 1,1,1,3,3,3-hexafluoro-2-methoxy-.
P-19-0021 | 8/9/2019 | 8/1/2019 | N | (G) Hydroxyalkyl carboxylic acid, polymer with alkylamine, alkylene carbonate, alkanediol, isocyanate, compd. with alkylamine,.
P-19-0022 | 8/9/2019 | 8/1/2019 | N | (G) Hydroxyalkyl carboxylic acid, polymer with alkylamine, alkylene carbonate, alkanediol, isocyanate, compd. with alkylamine,.
P-19-0031 | 8/19/2019 | 7/25/2019 | N | (G) Formaldehyde, polymer with N1-(2-aminoethyl)-alkanediamine, 5-amino-1,3,3-trimethylcyclohexanemethanamine, 2-(chloromethyl)oxirane, 4,4′-(1-methylethylidene)bis[phenol] and alpha-hydro-omega-hydroxypoly(oxy-1,2-ethanediyl).
*The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 08/01/2019 to 08/31/2019
Case No. | Received date | Type of test information | Chemical substance
P-00-0281 | 8/18/2019 | Daphnia sp., Acute Immobilization Test (OECD Test Guideline 202), Fish, Acute Toxicity Test (OECD Test Guideline 202), Surface Tension of Aqueous Solutions (OECD Test Guideline 115), Analytical Method Validation for Algae | (G) Alkylaryl sulfonic acid, sodium salts.
P-11-0484 | 8/21/2019 | Mass Spectrometry Analysis to Detect Impurities/Residuals | (G) Alkyl sulfate salt.
P-11-0487 | 8/21/2019 | Mass Spectrometry Analysis to Detect Impurities/Residuals | (G) Polyfluorinated alkyl polyamide.
P-11-0527 | 8/21/2019 | Mass Spectrometry Analysis to Detect Impurities/Residuals | (G) Polyfluorinated alkyl halide.
P-11-0528 | 8/21/2019 | Mass Spectrometry Analysis to Detect Impurities/Residuals | (G) Polyfluorinated alkyl thiol.
P-11-0529 | 8/21/2019 | Mass Spectrometry Analysis to Detect Impurities/Residuals | (G) Polyfluorinated alkyl thio acrylamide.
P-11-0530 | 8/21/2019 | Mass Spectrometry Analysis to Detect Impurities/Residuals | (G) Polyfluorinated alkyl thio polyacrylamide.
P-11-0532 | 8/21/2019 | Mass Spectrometry Analysis to Detect Impurities/Residuals | (G) Polyfluorinated alkyl amine.
P-11-0533 | 8/21/2019 | Mass Spectrometry Analysis to Detect Impurities/Residuals | (G) Polyfluorinated alkyl thio polyacrylamide.
P-11-0534 | 8/21/2019 | Mass Spectrometry Analysis to Detect Impurities/Residuals | (G) Polyfluorinated alkyl thio polyacrylic acid-acrylamide.
P-11-0543 | 8/21/2019 | Mass Spectrometry Analysis to Detect Impurities/Residuals | (G) Polyfluorinated alkyl quanternary ammonium chloride.
P-16-0225 | 8/6/2019 | Combined Repeated Dose Toxicity with the Reproduction/Development Toxicity Screening Test (OECD Test Guideline 422) | (G) Alkylene-substituted propoxycyclohexanol, Alkylene-substituted propoxycyclohexanol.
P-16-0543 | 8/9/2019 | Exposure Monitoring Report | (G) Halogenophosphoric acid metal salt.
P-18-0027 | 8/28/2019 | Fish acute toxicity test, freshwater and marine (OECD Test Guideline 203), Special Considerations—Tests with Aquatic and Sediment-Dwelling Fauna and Aquatic Microcosms, Fish Acute Toxicity Mitigated by Humic Acid | (G) 2-Propenoic acid, 2-alkyl-, 2-(dialkylamino)alkyl ester, polymer with alpha-(2-alkyl-1-oxo-2-alken-1-yl)-omega-methoxypoly(oxy-1,2-alkanediyl).
P-18-0141 | 8/14/2019 | Combined Repeated Dose Toxicity Study with the Reproduction/Developmental Toxicity Screening Test (OECD Test Guideline 422), Reproduction/Developmental Toxicity Screening Test (OECD Test Guideline 421), Repeated Dose 28-day Oral Toxicity Study in Rodents (OECD Test Guideline 407), Acute Inhalation Toxicity (OECD Test Guideline 403) | (G) Methyl modified lactam.
P-18-0141 | 8/21/2019 | Combined Repeated Dose Toxicity Study with the Reproduction/Developmental Toxicity Screening Test (OECD Test Guideline 422), Reproduction/Developmental Toxicity Screening Test (OECD Test Guideline 421), Repeated Dose 28-day Oral Toxicity Study in Rodents (OECD Test Guideline 407) | (G) Methyl modified lactam.
P-18-0203 | 8/7/2019 | Partition Coefficient (n-octanol/water), HPLC Method (OECD Test Guideline 117) | (G) Trialkyl alkanal, polymer with alkylalkanal and phenol.
P-19-0137 | 8/19/2019 | Modified Activated Sludge, Respiration Inhibition Test for Sparingly Soluble Chemicals (OECD Test Guideline 209), In Vitro Mammalian Chromosome Aberration Test (OECD Test Guideline 473) | (G) Alkyl oligomeric reaction products.

If you are interested in information that is not included in these tables, you may contact EPA's technical information contact or general information contact as described under FOR FURTHER INFORMATION CONTACT to access additional non-CBI information that may be available.

Authority: 15 U.S.C. 2601 et seq.

Dated: October 29, 2019.
Pamela Myrick,
Director, Information Management Division, Office of Pollution Prevention and Toxics.

[FR Doc. 2019-24287 Filed 11-6-19; 8:45 am]

BILLING CODE 6560-50-P